FEDERAL ELECTION COMMISSION

Sunshine Act Notice

AGENCY: Federal Election Commission.

DATE AND TIME: Thursday, November 15, 2012 at 10:00 a.m.

PLACE: 999 E Street NW., Washington, DC (Ninth Floor).

STATUS: This meeting will be open to the public.

ITEMS TO BE DISCUSSED:

Correction and Approval of the Minutes for the Meeting of October 18, 2012

Democratic Senatorial Campaign Committee—Request to Modify Conciliation Agreement (MUR 3620)

Request for Reconsideration of Advisory Opinion 2012-25: American Future Fund, American Future Fund Political Action, McIntosh

Draft Advisory Opinion 2012-34: Freedom PAC and Friends of Mike H

Audit Division Recommendation Memorandum on Rightmarch.com PAC, Inc. (A09-25)

Audit Division Recommendation Memorandum on the Maine Republican Party (MRP) (A09-09)

Audit Division Recommendation Memorandum on the McCain-Palin 2008, Inc. and McCain-Palin Compliance Fund, Inc.

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2012-27703 Filed 11-9-12; 11:15 am]

BILLING CODE 6715-01-P